DEPARTMENT OF AGRICULTURE

Forest Service

Wrangell-Petersburg Resource Advisory Committee

AGENCY: Forest Service, USDA.

ACTION: Notice of meeting.

SUMMARY: The Wrangell-Petersburg Resource Advisory Committee (RAC) will meet beginning at 2 p.m. on Sunday, November 17 through noon, Tuesday, November 19, 2002, in Wrangell, Alaska. The purpose of this meeting is to: Receive training pertinent to committee operations; to establish administrative procedures by which the committee will operate; and to create the process by which projects covered under Title II, Public Law 106-393, H.R. 2389, the Secure Rural Schools and Community Self-Determination Act of 2000, also called the “Payments to States” Act, will be identified and evaluated.

DATES: The meeting will be held commencing at 2 p.m. on Sunday, November 17 and adjourn at noon, Tuesday, November 19, 2002.

ADDRESSES: The meeting will be held at Harding's Old Sourdough Lodge, 1104 Peninsula, Wrangell, Alaska.

FOR FURTHER INFORMATION CONTACT: Chip Weber, Wrangell District Ranger, P.O. Box 51, Wrangell, AK 99929, phone (907) 874-2323, e-mail cweber@fs.fed.us, or Patty Grantham, Petersburg District Ranger, P.O. Box 1328, Petersburg, AK 99833, phone (907) 772-3871, e-mail pagrantham@fs.fed.us.

SUPPLEMENTARY INFORMATION: This will be the first meeting of the committee, and will focus on training regarding Federal Advisory Committee processes, and on the content of the Payments to States legislation (Pub. L. 106-393); on administrative procedures regarding the functioning of the Wrangell-Petersburg RAC; and on developing the process by which projects will be requested and evaluated for recommendation for Title II funding. The meeting is open to the public. Public input opportunity will be provided and individuals will have the opportunity to address the committee at that time.

Dated: October 18, 2002.
Thomas Puchlerz,
Forest Supervisor.

[FR Doc. 02-27200 Filed 10-24-02; 8:45 am]

BILLING CODE 3410-11-M